DEPARTMENT OF COMMERCE

National Oceanic and Atmospheric Administration

Agency Information Collection Activities; Submission to the Office of Management and Budget (OMB) for Review and Approval; Comment Request; Analysis of and Participation in Ocean Exploration Video Products

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 21, 2023.

ADDRESSES: Interested persons are invited to submit written comments to Adrienne Thomas, NOAA PRA Officer, at NOAA.PRA@noaa.gov. Please reference OMB Control Number 0648-0748 in the subject line of your comments. Do not submit Confidential Business Information or otherwise sensitive or protected information.

FOR FURTHER INFORMATION CONTACT: Requests for additional information or specific questions related to collection activities should be directed to Abby Letts, LTJG/NOAA, NOAA Ocean Exploration, Joint Hydrographic Center, 24 Colovos Rd., Durham, NH 03824, (301) 325-3792; abby.letts@noaa.gov.

SUPPLEMENTARY INFORMATION:

I. Abstract

This request is for a revision and extension to an existing information collection.

NOAA Ocean Exploration (OE) is the only federal organization dedicated to ocean exploration. By using unique capabilities in terms of personnel, technology, infrastructure, and exploration missions, OE is reducing unknowns in deep-ocean areas and providing high-value environmental intelligence needed by NOAA and the nation to address both current and emerging science and management needs. Through live video and data streams, online coverage, training opportunities, and events, we allow scientists, resource managers, students, members of the general public, and others to actively experience ocean exploration, allowing broader scientific participation, and cultivating the next generation of ocean explorers, and engaging the public in exploration activities. To better understand our ocean, our office makes exploration data available to the public. This allows us, collectively, to more effectively maintain ocean health, sustainably manage our marine resources, accelerate our national economy, and build a better appreciation of the value and importance of the ocean in our everyday lives. It is only through leveraging resources internally and externally that we can truly achieve our mission.

Since the inception of NOAA's exploration program in 2001, OE data management has been guided by the 2000 President's Panel Report recommendations which prioritized rapid and unrestricted data sharing as one of five critical exploration program components. More recently, Public Law 111-11 [Section XII Ocean Exploration] reinforced and expanded OER data management objectives, continuing to stress the importance of sharing unique exploration data and information to improve public understanding of the oceans, and for research and management purposes.

Telepresence satellite communication from the ship to shore brings the unknown ocean to the screens of both scientists and the general public in their homes, schools or offices in near real time. With technology constantly evolving, it is important to address the needs of the shore based scientists and public to maintain a high level of participation. We use voluntary surveys to identify the needs of users of data, best approaches to leverage expertise of shore based participants for meaningful public engagement focused on ocean exploration.

The five forms used to collect information are as follows: (1) Sailing Contact Information. This form is sent to the few scientists that directly sail on NOAA Ship Okeanos Explorer. The ship's operational officer needs certain information such as: if a sailing individual has securely submitted their proper medical documents to NOAA's Office of Marine and Aviation Operations; if the person is up to date with required security documents, such as a passport, if the ship is traveling to a foreign port; any dietary restrictions so that the person will be served food that is safe. (2) Okeanos Explorer Participation Assessment. This voluntary form is sent to the scientists that sailed on any Okeanos Explorer cruise funded by NOAA's Office of Ocean Exploration and Research to record any feedback they wish to provide to the office about their experience. The office uses their feedback in assessments for improving the utility and experience of these scientific guests sailing on the Okeanos Explorer. (3) EX Collaboration Tools Feedback. This voluntary form is sent to members of the marine scientific community at the beginning of a fiscal year to ask if members would like to participate in any of the upcoming cruises and to what degree, such as simply asking to be included in emailed updates or if they want to be on a direct line to the ship for remotely operated vehicle dive operations. (4) Citizen Scientist. This voluntary form is available to general members of the public and is used for members to improve the annotation efforts when watching short video clips of 30 seconds to 5 minutes. (5) Science Lead Solicitation. This voluntary form will be used to solicit interest from the scientific community to serve as a Science Lead on one of NOAA Ocean Exploration's expeditions.

The first forms described above will include minor revisions, and the fifth form is a new addition. The Sailing Contact Information form will be revised to include updated informational attachments (e.g., links to updated COVID guidance, medical clearance, and underwater cultural heritage protocols) and updated expedition names and dates for a given calendar year. The Okeanos Explorer Participation Assessment will be revised to replace some technical/scientific questions with questions that relate to communication, leadership, and workplace climate. The EX Collaboration Tools form will be revised to include updated informational attachments (e.g., underwater cultural heritage protocols) and updated expedition names and dates for a calendar year. The Citizen Scientist form will be updated for expedition names and dates for a calendar year.

II. Method of Collection

Information is collected electronically.

III. Data

OMB Control Number: 0648-0748.

Form Number(s): None.

Type of Review: Regular submission [revision and extension of an approved information collection].

Affected Public: Individuals or households; business or other for-profit organizations; not-for-profit institutions; Federal government.

Estimated Number of Respondents: 1,000.

Estimated Time per Response: 10 minutes.

Estimated Total Annual Burden Hours: 668 hours.

Estimated Total Annual Cost to Public: $0.

Respondent's Obligation: Voluntary or required to obtain services or benefits.

Legal Authority: Public Law 111-11, Section XII Ocean Exploration.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-13127 Filed 6-20-23; 8:45 am]

BILLING CODE 3510-KD-P